DEPARTMENT OF HOMELAND SECURITY

[Docket No. CISA-2024-0018]

Agency Information Collection Activities: Title of Collection: CISA Industry Engagement Registration & Account in ServiceNow Collection Instrument: CISA Industry Engagement Registration & Account Form

AGENCY: Cybersecurity and Infrastructure Security Agency (CISA), Department of Homeland Security (DHS).

ACTION: 30-Day notice of information collection; request for comment; new information collection request (request for a new OMB Control Number 1670-NEW).

SUMMARY: The Office of the Chief Acquisition Executive (OCAE) within Cybersecurity and Infrastructure Security Agency (CISA) submits the following information for a new Information Collection Request (ICR) to the Office of Management and Budget (OMB) for review and clearance. CISA previously published this ICR in the Federal Register on June 24, 2024, for a 60-day public comment period. One comment was received by CISA. The purpose of this notice is to allow additional 30-days for public comments.

DATES: Comments are encouraged and will be accepted until June 16, 2025.

Submissions received after the deadline for receiving comments may not be considered.

ADDRESSES: Written comments and recommendations for the proposed information collection should be sent within 30 days of publication of this notice to www.reginfo.gov/public/do/PRAMain. Find this particular information collection by selecting “Currently under 30-day Review—Open for Public Comments” or by using the search function.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

FOR FURTHER INFORMATION CONTACT: Jenny Hiple, (202) 679-0681, jenny.hiple@cisa.dhs.gov.

SUPPLEMENTARY INFORMATION: CISA's Office of the Chief Acquisition Executive (OCAE) seeks to automate the collection of information from vendors wishing to engage with CISA through a new industry engagement registration and account creation process in ServiceNow. The purpose of this collection is to facilitate efficient and effective interactions between CISA and vendors possessing innovative capabilities that align with CISA's mission. This system will also maintain an internal database of vendor capabilities, which will serve as a vital reference for identifying potential partners and solutions that meet CISA's operational needs and objectives.

Response to Public Comment: During the 60-day public comment period, CISA received one comment expressing the opinion that the agency should not exist and should not engage in any contracts, citing concerns about the agency's impact on free speech.

CISA acknowledges this feedback; however, the comment is outside the scope of this information collection request, which is focused on the process of vendor engagement and registration to support CISA's operational needs. The comment does not address the specific aspects of the information collection under review, such as the necessity, utility, or burden of the proposed data collection.

Analysis

Agency: Cybersecurity and Infrastructure Security Agency (CISA), Department of Homeland Security (DHS).

Title: CISA Industry Engagement Registration & Account in ServiceNow.

OMB Number: 1670-NEW.

Frequency: Annually.

Affected Public: Private sector businesses.

Number of Respondents: 420 responses per year.

Estimated Time per Respondent: 30 minutes.

Total Burden Hours: 210 hours.

Annualized Cost: $8,883.

Annualized Cost to Government: $10,040.

Robert J. Costello,
Chief Information Officer, Department of Homeland Security, Cybersecurity and Infrastructure Security Agency.

[FR Doc. 2025-08560 Filed 5-14-25; 8:45 am]

BILLING CODE 9111-LF-P